DEPARTMENT OF TRANSPORTATION

Federal Aviation Administration

Public Notice for a Change in Use of Aeronautical Property at the Beauregard Regional Airport, DeRidder, Louisiana

AGENCY: Federal Aviation Administration (FAA), DOT.

ACTION: Notice of request for a change in designation of on-airport property federally conveyed, as a result of the Surplus Property Act of 1944, from aeronautical to non-aeronautical use.

SUMMARY: The FAA is requesting public comment on the Police Jury of Beauregard Parish's proposal to change 3,501.65 acres of airport property at Beauregard Regional Airport in DeRidder, Louisiana from aeronautical to non-aeronautical use. This acreage was federally conveyed through the Surplus Property Act of 1944.

DATES: Comments must be received on or before March 8, 2024.

ADDRESSES: Comments on this application may be mailed or delivered to the FAA at the following address: Mr. Justin Barker, Manager, Federal Aviation Administration, Southwest Region, Airports Division, Louisiana/New Mexico Airports Development Office, ASW-640, Fort Worth, Texas 76177.

In addition, one copy of any comments submitted to the FAA must be mailed or delivered to Mr. Hollis Ray O'Neal, Police Jury of Beauregard Parish Chairman, at the following address: 1220 1st Avenue, DeRidder, LA 70634.

FOR FURTHER INFORMATION CONTACT: Ms. Alison M. Brooks, Program Manager, Federal Aviation Administration, Louisiana/New Mexico Airports Development Office, ASW-640, 10101 Hillwood Parkway, Fort Worth, Texas 76177, Telephone: (817) 222-5522, Email: alison.m.brooks@faa.gov.

SUPPLEMENTARY INFORMATION: In accordance with 49 U.S.C. 47107(h), this notice is required to be published in the Federal Register 30 days before modifying the land-use assurance that requires the property to be used for an aeronautical purpose.

The following is a brief overview of the request:

The Police Jury of Beauregard Parish requests 3,501.65 acres of Parcel 2 (as shown on their Exhibit A), be released for non-aeronautical use. The land will be leased out to various developments. Historic parcel 2 was acquired on January 22, 1949 under the Surplus Property Act of 1944. The proposed area of release is located north of Graybow Road, west of LA Highway 3099, east of Seth Cole Road, and south of Blankenship Road with exclusion of Parcel 1 which is contained in the airport's perimeter fence. The Police Jury of Bearegard Parish will lease this property to grow airport revenues as well as the economy. The purpose of this request is to permanently change the designation of the property given there is no potential for future aviation use, as demonstrated by the Airport Layout Plan. Subsequent to the implementation of the proposed redesignation, rents received by the airport from this property must be used in accordance with FAA's Policy and Procedures Concerning the Use of Airport Revenue, published in the Federal Register on February 16, 1999.

Any person may inspect the request by appointment at the FAA office address listed above. Interested persons are invited to comment. All comments will be considered by the FAA to extent practicable.

Issued in Fort Worth, Texas, on September 2023.
Ignacio Flores,
Director, Office of Airports Southwest Region.

Editorial Note: This document was received on January 31, 2024 for publication by the Office of the Federal Register.

[FR Doc. 2024-02223 Filed 2-6-24; 8:45 am]

BILLING CODE 4910-13-P